DEPARTMENT OF COMMERCE

National Oceanic and Atmospheric Administration

Proposed Information Collection; Comment Request; Special Subsistence Permits and Harvest Logs for Pacific Halibut in Waters Off Alaska

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 5, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to Patsy A. Bearden, 907-586-7008 or patsy.bearden@noaa.gov.

SUPPLEMENTARY INFORMATION:

I. Abstract

The National Marine Fisheries Service (NMFS) designed the halibut subsistence fishing reporting instruments in this collection to work in conjunction with other halibut harvest assessment measures to retrieve essential Pacific halibut information while minimizing the reporting burden on subsistence halibut fishermen. Ceremonial and Educational Permits in International Pacific Halibut Commission (IPHC) Area 2C or 3A are available exclusively to Alaska Native Tribes listed in 50 CFR 300.65(f)(2). The permits consist of a laminated permit card and a harvest log. Eligible Alaska Native tribes are limited to one Ceremonial Permit Coordinator per tribe, and one authorized instructor per Educational Program. Both permits expire 30 days from date of issuance.

A Community Harvest Permit (CHP) is issued to an Alaska Native Tribe, or to eligible rural communities in the absence of a tribe, provided the tribe or community is listed in § 300.65(f)(1) or (f)(2). An eligible tribe or community selects individual harvesters who possess particular expertise in halibut fishing to harvest halibut on behalf of the community or tribe under reduced gear and harvest restrictions. A CHP Coordinator maintains possession of the CHP log at all times and issues the CHP permit card to each eligible subsistence fisherman. The CHP Coordinator records harvest information from each fisherman in the CHP log and returns it to NMFS. The CHP permit expires one year from the date of issuance.

II. Method of Collection

Ceremonial harvest and Community harvest applications may be applied for online through the Internet. Educational Permit applications may be completed on-screen, printed, and submitted by mail or fax. The permit applications may be submitted as a list of multiple individuals from an Alaska Native tribe.

III. Data

OMB Number: 0648-0512.

Form Number: None.

Type of Review: Regular submission.

Affected Public: Individuals or households; State, Local or Tribal Government.

Estimated Number of Respondents: 109.

Estimated Time Per Response: 10 minutes to complete and submit online a special permit application (Community Harvest, Ceremonial Harvest, or Education Harvest); 30 minutes to complete and submit log (Community Harvest, Ceremonial Harvest, or Education Harvest) by mail; and 4 hours to complete and submit appeal for denial of special permit.

Estimated Total Annual Burden Hours: 140.

Estimated Total Annual Cost to Public: $983.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 30, 2007.
Gwellnar Banks,
Management Analyst, Office of the Chief Information Officer.

[FR Doc. E7-17529 Filed 9-4-07; 8:45 am]

BILLING CODE 3510-22-P